NUCLEAR REGULATORY COMMISSION

[Docket Nos. 52-040 and 05-041; NRC-2009-0337]

Combined License Application for Turkey Point Nuclear Plant, Unit Nos. 6 and 7

AGENCY: Nuclear Regulatory Commission.

ACTION: Draft environmental impact statement; request for comment.

SUMMARY: The U.S. Nuclear Regulatory Commission (NRC) and the U.S. Army Corps of Engineers (USACE), Jacksonville District, are issuing for public comment NUREG-2176, “Draft Environmental Impact Statement for Combined Licenses (COLs) for Turkey Point Nuclear Plant, Units 6 and 7,” to support the environmental review for the COL. Florida Power and Light Company (FPL) submitted an application for COLs to construct and operate two new nuclear power plants at its Turkey Point site near Homestead, Florida.

DATES: Submit comments by May 22, 2015. Comments received after this date will be considered if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2009-0337. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN 12 H8, U.S. Nuclear Regulatory Commission, Washington, DC 20555-0001.

For additional direction on obtaining information and submitting comments, see “Obtaining Information and Submitting Comments” in the SUPPLEMENTARY INFORMATION section of this document.

FOR FURTHER INFORMATION CONTACT: Alicia Williamson, Office of New Reactors, Mail Stop: TWFN 6C32, U.S. Nuclear Regulatory Commission, Washington, DC 20555-0001; telephone: 301-415-1878, email: Alicia.Williamson@nrc.gov.

SUPPLEMENTARY INFORMATION:

I. Obtaining Information and Submitting Comments

A. Obtaining Information

Please refer to Docket ID NRC-2009-0337 when contacting the NRC about the availability of information regarding this document. You may obtain publicly-available information related to this action by the following methods:

• Federal Rulemaking Web site: Go to http://www.regulations.gov and search for Docket ID NRC-2009-0337.

• NRC's Agencywide Documents Access and Management System (ADAMS): You may obtain publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft environmental impact statement (EIS) is available in ADAMS under Accession Nos. ML15055A103 and ML15055A109.

• NRC's PDR: You may examine and purchase copies of public documents at the NRC's PDR, Room O1-F21, One White Flint North, 11555 Rockville Pike, Rockville, Maryland 20852.

• Project Web site: The draft EIS can be accessed online at the Turkey Point COL specific Web page at: http://www.nrc.gov/reactors/new-reactors/col/turkey-point/documents.html.

B. Submitting Comments

Please include Docket ID NRC-2009-0337 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC is issuing for public comment a draft environmental impact statement (EIS). The application submitted by FPL for COLs for Turkey Point Units 6 and 7 was submitted by letter dated June 30, 2009, pursuant to part 52 of Title 10 of the Code of Federal Regulations. A notice of receipt and availability of the application including the environmental report (ER) was published in the Federal Register on August 3, 2009 (74 FR 38477). A notice of acceptance for docketing of the application for the COL was published in the Federal Register on October 7, 2009 (74 FR 51621). A notice of intent to prepare a draft EIS and to conduct the scoping process was published in the Federal Register on June 15, 2010 (75 FR 33851). The draft EIS is a National Environmental Policy Act of 1969, as amended (NEPA) document that also supports the USACE's review of the Department of the Army (DA) permit application from FPL (SAJ-2009-02417). The USACE's Public Interest Review will be part of its Record of Decision and is not addressed in the EIS. As part of the USACE public comment process, the USACE will publish a public notice (in the Federal Register) within 30 days of the publication of the draft EIS to solicit comments from the public regarding FPL's DA permit application for proposed work at the Turkey Point site.

III. Public Meetings for Comment

The NRC and the USACE will hold public meetings to present an overview of the draft EIS and to accept public comments on both the document and the associated DA permit in April 2015, in the Homestead, Florida area. A separate meeting notice will be issued as soon as the meeting dates are set. The meetings will be transcribed and will include: (1) A presentation of the contents of the draft EIS; and (2) the opportunity for interested government agencies, organizations, and individuals to provide comments on the draft report. For comments provided at the public meeting to be considered, they must be provided during the transcribed public meeting either orally or in writing. Additionally, the NRC and the USACE will host informal discussions one hour before the start of each meeting, during which time members of the public may meet and talk with staff members on an informal basis. No formal comments on the draft EIS will be accepted during the informal discussions.

Dated at Rockville, Maryland, this 24th day of February 2015.
For the Nuclear Regulatory Commission.
Frank M. Akstulewicz,
Director, Division of New Reactor Licensing, Office of New Reactors.

[FR Doc. 2015-05099 Filed 3-4-15; 8:45 am]

BILLING CODE 7590-01-P